DEPARTMENT OF TRANSPORTATION

National Highway Traffic Safety Administration

[Docket No. NHTSA 2004-19991; Notice 2]

Coupled Products, Inc., Grant of Petition for Decision of Inconsequential Noncompliance

Coupled Products, Inc. (Coupled Products) has determined that certain hydraulic brake hose assemblies that it produced do not comply with S5.3.4 and S5.3.6 of 49 CFR 571.106, Federal Motor Vehicle Safety Standard (FMVSS) No. 106, “Brake hoses.” Pursuant to 49 U.S.C. 30118(d) and 30120(h), Coupled Products has petitioned for a determination that this noncompliance is inconsequential to motor vehicle safety and has filed an appropriate report pursuant to 49 CFR Part 573, “Defect and Noncompliance Reports.” Notice of receipt of a petition was published, with a 30-day comment period, on January 14, 2005, in the Federal Register (70 FR 2708). NHTSA received no comments.

A total of approximately 7,417 brake hose assemblies are affected, utilizing a fitting identified as Part Number 12271 which was incorporated into 6,075 assemblies bearing Part Number 3381, and into 1,244 assemblies bearing Part Number 3381A; plus 98 assemblies bearing a fitting with Part Number 380653.

S5.3.4 of FMVSS No. 106, tensile strength, requires that “a hydraulic brake hose assembly shall withstand a pull of 325 pounds without separation of the hose from its end fittings.” S5.3.6 of FMVSS No. 106, water absorption and tensile strength, requires that “a hydraulic brake hose assembly, after immersion in water for 70 hours, shall withstand a pull of 325 pounds without separation of the hose from its end fittings.”

The potentially affected hoses were manufactured during the time period of January 30, 2004 through September 10, 2004, using a “straight cup” procedure rather than the appropriate “step cup” procedure. Compliance testing by the petitioner of sample hose assemblies from each of the affected part numbers revealed that they failed the tensile strength tests of S5.3.4 and S5.3.6.

Coupled Products believes that the noncompliance is inconsequential to motor vehicle safety and that no corrective action is warranted. The petitioner states the following:

Part number 12217 is used in assemblies for SUV and pick-up truck applications. Part number 380653 is utilized for suspension lift kits * * * [T]he hose assemblies in these applications are located * * * above significant pieces of vehicle hardware including the driveshaft, differential case, and fuel tank (hardware). This configuration is such that a linear, end-to-end “straight pull” on the hose assembly, as that contained in the FMVSS No. 106 tensile strength test procedure, is not a real-life scenario. Rather than a “straight pull,” it is more likely (albeit remote) that the free length of the hose itself could be entangled or caught on a piece of road debris or other obstruction, resulting in a “side pull” on the assembly. This scenario itself is remote because the underlying hardware shields the hose assembly. Therefore, if debris were to become entangled in the hose assembly, it would first have to bypass the hardware. If that were to occur, the impact would need to be so great as to make the concern of braking potential irrelevant.

Despite the fact that tensile stress on the assembly is an unlikely real life scenario, to assess the impact of this unlikely scenario, petitioner conducted a side pull tensile test on a sample of the subject brake hose assemblies to simulate the possible effect of a side pull on the integrity of the hose assembly * * *. The “side pull” test results show that the tensile load achieved prior to the ends separating from the hose exceeded 538 pounds in each of the samples analyzed for tensile results—well in excess of the 325 pound requirement.

Coupled Products further states:

Because the braking system on the vehicles in question utilizes a dual chamber master cylinder, any failure of the hose assembly due to excessive tensile force—unlikely as that may be—will not result in a loss of braking capability of the vehicle. Depending on the assembly affected, front or rear braking capability would still exist, although additional stopping distance might be required. Furthermore, the vehicle's emergency braking system would also exist.

Coupled Products indicates that the problem has been corrected.

NHTSA agrees with Coupled Products that the noncompliance is inconsequential to motor vehicle safety. As the petitioner indicates, the configuration for the specific application of these brake hoses is such that a linear, end-to-end straight pull on the hose assembly is unlikely to occur. Further, the petitioner's testing for a more likely scenario, i.e., a side-pull on the assembly, produced results that far exceeded the 325 pound requirement of the standard.

Also, as Couple Products points out, this noncompliance would not result in a loss of braking capability. Either front or rear braking capability would still exist, and the vehicle's emergency braking system would remain operational. Coupled Products has corrected the problem. It should be noted that NHTSA recently granted a similar inconsequential noncompliance petition by Coupled Products where, because of the specific vehicle application (which is also the case here), the brake hose assemblies would not be subject to the type of forces specified in the standard (70 FR 32397).

In consideration of the foregoing, NHTSA has decided that the petitioner has met its burden of persuasion that the noncompliance described is inconsequential to motor vehicle safety. Accordingly, Coupled Products' petition is granted and the petitioner is exempted from the obligation of providing notification of, and a remedy for, the noncompliance.

Authority: (49 U.S.C. 30118, 30120; delegations of authority at CFR 1.50 and 501.8).

Issued on: June 14, 2005.
Ronald L. Medford,
Senior Associate Administrator for Vehicle Safety.

[FR Doc. 05-12115 Filed 6-20-05; 8:45 am]

BILLING CODE 4910-59-P